DEPARTMENT OF THE INTERIOR

Office of the Secretary

Invasive Species Advisory Committee; Meetings

AGENCY: Office of the Secretary, Interior.

ACTION: Notice of public meetings of the Invasive Species Advisory Committee.

SUMMARY: Pursuant to the provisions of the Federal Advisory Committee Act, notice is hereby given of meetings of the Invasive Species Advisory Committee (ISAC). Comprised of 31 nonfederal invasive species experts and stakeholders from across the nation, the purpose of the Advisory Committee is to provide advice to the National Invasive Species Council, as authorized by Executive Order 13112, on a broad array of issues related to preventing the introduction of invasive species and providing for their control and minimizing the economic, ecological, and human health impacts that invasive species cause. The Council is co-chaired by the Secretary of the Interior, the Secretary of Agriculture, and the Secretary of Commerce. The duty of the Council is to provide national leadership regarding invasive species issues.

Purpose of Meeting: The meeting will be held on March 7-8, 2013 in Arlington, Virginia, and will focus on the changing approaches to invasive species. The purpose of the meeting is to convene the full ISAC and consider strategies and methodologies for implementing performance elements outlined in the 2008-2012 National Invasive Species Management Plan. The meeting agenda is now available on the NISC Web site, www.invasivespecies.gov. Supplemental materials will be uploaded to the site on or before Friday, February 22, 2013.

The full committee meeting on Thursday, February 7, 2013 and Friday, February 8, 2013 is open to the public. An orientation session will be held on Wednesday, February 06, 2013 for the 14 new ISAC members appointed by Secretary Ken Salazar on January 22, 2013. Note: There will be no committee business conducted during the orientation session, which is closed to the public.

DATES: ISAC New Member Orientation (CLOSED): Wednesday, February 6, 2013; 9:00 a.m.-1:45 p.m. Meeting of the Invasive Species Advisory Committee (OPEN): Thursday, February 7, 2013 through Friday, March 8, 2013, 8:00 a.m. to 5:00 p.m.

ADDRESSES: Sheraton Pentagon City, 900 South Orme Street, Arlington, VA 22204-4520. The general session on Thursday, February 7, 2013, and Friday, February 8, 2013 will be held in the Galaxy Ballroom.

FOR FURTHER INFORMATION CONTACT: Kelsey Brantley, National Invasive Species Council Program Specialist and ISAC Coordinator, Phone: (202) 513-7243; Fax: (202) 371-1751; email: Kelsey_Brantley@ios.doi.gov. Additional information can also be obtained from the NISC Web site, www.invasivespecies.gov.

Dated: February 6, 2013.
Lori Williams,
Executive Director, National Invasive Species Council.

[FR Doc. 2013-03062 Filed 2-8-13; 8:45 am]

BILLING CODE 4310-RK-P